DEPARTMENT OF COMMERCE

National Oceanic and Atmospheric Administration

[I.D. 020101C]

Pacific Fishery Management Council; Public Meetings

AGENCY: National Marine Fisheries Service (NMFS), National Oceanic and Atmospheric Administration (NOAA), Commerce.

ACTION: Notice of public meetings.

SUMMARY: The Pacific Fishery Management Council (Council) and its advisory entities will hold public meetings.

DATES: The Council and its advisory entities will meet March 5-9, 2001. The Council meeting will begin on Tuesday, March 6, at 8 a.m., reconvening each day through Friday. The Council will meet as late as necessary each day to complete its scheduled business.

ADDRESSES: The meetings hearing will be held at the Double Tree Hotel - Columbia River, 1401 N Hayden Island Drive, Portland, OR 97217; telephone: (503) 283-2111.

Council address: Pacific Fishery Management Council, 2130 SW Fifth Avenue, Suite 224, Portland, OR 97201.

FOR FURTHER INFORMATION CONTACT: Dr. Donald O. McIsaac, Executive Director; telephone: (503) 326-6352.

SUPPLEMENTARY INFORMATION: All meetings are open to the public, except a closed session will be held from 8 a.m. until 9:30 a.m. on Wednesday, March 7 to address litigation and personnel matters. The following items are on the Council agenda, but not necessarily in this order:

A. Call to Order

1. Opening Remarks, Introductions

2. Roll Call

3. Executive Director’s Report

4. Approve Agenda

5. Approve September and November Meeting Minutes

B. Salmon Management

1. Report on Federal Regulation Implementation

2. Review of 2000 Fisheries and Summary of 2001 Stock Abundance Estimates

3. Inseason Management Recommendations for Openings Prior to May 1 off Oregon

4. Identification of Management Objectives and Preliminary Definition of 2001 Options

5. Progress Report on the Queets Coho Overfishing Status Review

6. Update on Snake River Spring Chinook Salmon Recovery

7. Council Recommendations for 2001 Management Option Analysis

8. Appointment of Officers for March Salmon Hearings

9. Adoption of 2001 Management Options for Public Review

C. Habitat Issues

Ongoing and New Habitat Issues

D. Groundfish Management

1. Status of NMFS Research Programs and Other Nonregulatory Activities

2. Exempted Fishing Permit Applications

3. Future Groundfish Management Process and Schedule

4. Implementation of the Groundfish Strategic Plan

5. Groundfish Informational Reports

E. Highly Migratory Species Management

1. International Highly Migratory Species (HMS) Discussions and Actions

2. First Draft of the HMS Fishery Management Plan

F. Pacific Halibut Management

1. Halibut Informational Reports

2. Proposed 2001 Incidental Catch Regulations for the Troll Salmon Fishery

G. Administrative and Other Matters

1. Status of Legislation

2. Appointments of Remaining Vacancies to Advisory Bodies for 2001 Through 2003

3. April 2001 Council Meeting Agenda

4. Council Staff Workload Priorities

SCHEDULE OF ANCILLARY MEETINGS
MONDAY, MARCH 5, 2001
Council Secretariat | 7 a.m. | Wallowa Room
Scientific and Statistical | 8 a.m. | Deschutes Room
Salmon Advisory Subpanel | 8 a.m. | Umatilla Room
Salmon Technical Team | 8 a.m. | Tualatin Room
Tribal Policy Group | 8 a.m. | Wilson Room
Tribal/Washington Technical | 8 a.m. | Santiam Room
Habitat Steering Group | 9 a.m. | Yakima Room
Strategic Plan Oversight | 10 a.m. | Nestucca Room
Enforcement Consultants | 2 p.m. | Umpqua Room
Klamath Fishery Management | As Needed | Rogue Room
TUESDAY, MARCH 6, 2001
Council Secretariat | 7 a.m. | Wallowa Room
California State Delegation | 7 a.m. | Umatilla Room
Oregon State Delegation | 7 a.m. | Deschutes Room
Washington State Delegation | 7 a.m. | Yakima Room
Scientific and Statistical | 8 a.m. | Deschutes Room
Tribal Policy Group | 8 a.m. | Wilson Room
Tribal/Washington Technical | 8 a.m. | Santiam Room
Highly Migratory Species | 10:30 a.m. | Nehalem Room
Enforcement Consultants | 5:30 p.m. | Umpqua Room
Klamath Fishery Management | As Needed | Rogue Room
Salmon Advisory Subpanel | As Needed. | Umatilla Room
Salmon Technical Team | As Needed. | Tualatin Room
WEDNESDAY, MARCH 7, 2001
Council Secretariat | 7 a.m. | Wallowa Room
California State Delegation | 7 a.m. | Umatilla Room
Oregon State Delegation | 7 a.m. | Deschutes Room
Washington State Delegation | 7 a.m. | Yakima Room
Highly Migratory Species | 8 a.m. | Nehalem Room
Tribal Policy Group | 8 a.m. | Wilson Room
Tribal/Washington Technical | 8 a.m. | Santiam Room
Enforcement Consultants | As Needed | Umpqua Room
Klamath Fishery Management | As Needed | Rogue Room
Salmon Technical Team | As Needed. | Tualatin Room
Salmon Advisory Subpanel | As Needed. | Umatilla Room
THURSDAY, MARCH 8, 2001
Council Secretariat | 7 a.m. | Wallowa Room
California State Delegation | 7 a.m. | Umatilla Room
Oregon State Delegation | 7 a.m. | Deschutes Room
Washington State Delegation | 7 a.m. | Yakima Room
Tribal Policy Group | 8 a.m. | Wilson Room
Tribal/Washington Technical | 8 a.m. | Santiam Room
Enforcement Consultants | As Needed | Umpqua Room
Klamath Fishery Management | As Needed | Rogue Room
Salmon Technical Team | As Needed. | Tualatin Room
Salmon Advisory Subpanel | As Needed. | Umatilla Room
FRIDAY, MARCH 9, 2001
Council Secretariat | 7 a.m. | Wallowa Room
California State Delegation | 7 a.m. | Umatilla Room
Oregon State Delegation | 7 a.m. | Deschutes Room
Washington State Delegation | 7 a.m. | Yakima Room
Tribal Policy Group | 8 a.m. | Wilson Room
Tribal/Washington Technical | 8 a.m. | Santiam Room
Salmon Technical Team | As Needed. | Tualatin Room
Salmon Advisory Subpanel | As Needed. | Umatilla Room

Although non-emergency issues not contained in this agenda may come before this Council for discussion, those issues may not be the subject of formal Council action during this meeting. Council action will be restricted to those issues specifically listed in this notice and any issues arising after publication of this notice that require emergency action under section 305(c) of the Magnuson-Stevens Fishery Conservation and Management Act, provided the public has been notified of the Council's intent to take final action to address the emergency.

Special Accommodations

These meetings are physically accessible to people with disabilities. Requests for sign language interpretation or other auxiliary aids should be directed to Ms. Carolyn Porter at (503) 326-6352 at least 5 days prior to the meeting date.

February 2, 2001.
Richard W. Surdi,
Acting Director, Office of Sustainable Fisheries, National Marine Fisheries Service.

[FR Doc. 01-3278 Filed 2-7-01; 8:45 am]

BILLING CODE 3510-22-S